DEPARTMENT OF TRANSPORTATION

Federal Aviation Administration

14 CFR Part 71

[Docket No. FAA-2024-1848; Airspace Docket No. 24-ASO-10]

RIN 2120-AA66

Amendment and Revocation of Domestic Very High Frequency Omnidirectional Range (VOR) Federal Airways; Eastern United States

AGENCY: Federal Aviation Administration (FAA), DOT.

ACTION: Final rule.

SUMMARY: This action amends domestic Very High Frequency Omnidirectional Range (VOR) Federal Airways V-3, V-35, V-51, V-97, V-157, V-159, V-225, V-437, V-492, V-521, and V-537 and revokes VOR Federal Airways V-295, V-529, and V-601 in the eastern United States. The FAA is taking this action due to the planned decommissioning of the Cypress, FL (CYY), VOR/Distance Measuring Equipment (VOR/DME); the La Belle, FL (LBV), VOR/Tactical Air Navigation (VORTAC); the Pahokee, FL (PHK), VOR/DME; and the Treasure, FL (TRV), VORTAC. This action is in support of the FAA's VOR Minimum Operational Network (MON) Program.

DATES: Effective date 0901 UTC, April 17, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a NPRM for Docket No. FAA 2024-1848 in the Federal Register (89 FR 58299; July 18, 2024), proposing to amend domestic VOR Federal Airways V-3, V-35, V-51, V-97, V-157, V-159, V-225, V-437, V-492, V-521, and V-537 and revoke VOR Federal Airways V-295, V-529, and V-601 in the eastern United States. Interested parties were invited to participate in this rulemaking effort by submitting written comments on the proposal to the FAA. No comments were received.

Differences From the NPRM

Subsequent the NPRM, the FAA identified that in the description of VOR Federal Airway V-3, the radials listed for the SMUGS, FL, Fix, proposed to replace the Treasure, FL (TRV), VORTAC were incorrect. The SMUGS Fix was incorrectly listed as the intersection of the Palm Beach, FL (PBI), VORTAC 340° True (T)/343° Magnetic (M) and the Lee County, FL (RSW), VORTAC 063°T/065°M radials. The correct radials for the SMUGS Fix are the intersection of the Palm Beach, FL (PBI), VORTAC 340°T/343°M and the Melbourne, FL (MLB), VOR/DME 161°T/168°M radials. The corrected radials that form the SMUGS Fix are included in the V-3 preamble discussion and regulatory text section in this final rule.

Additionally, the FAA made minor editorial corrections to the airway descriptions to comply with ATS route formatting requirements.

Incorporation by Reference

Domestic VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending VOR Federal Airways V-3, V-35, V-51, V-97, V-157, V-159, V-225, V-437, V-492, V-521, and V-537; and revoking VOR Federal Airways V-295, V-529, and V-601 in the eastern United States. This action is due to the decommissioning of the Cypress, FL (CYY), VOR/DME; the La Belle, FL (LBV), VORTAC; the Pahokee, FL (PHK), VOR/DME; and the Treasure, FL (TRV), VORTAC. This action is in support of the FAA's VOR MON Program. The ATS route changes are described below.

V-3: Prior to this final rule, V-3 extended between the Key West, FL (EYW), VORTAC and the intersection of the Savannah, GA (SAV), VORTAC 028° and Allendale, SC (ALD), VOR 116° radials (OWENS Fix); between the Florence, SC (FLO), VORTAC and the Boston, MA (BOS), VOR/DME; and between the Presque Isle, ME (PQI), VOR/DME and the intersection of the Presque Isle VOR/DME 270° and the Millinocket, ME (MLT), VOR/DME 320° radials (LABRE Fix). The FAA removes the Treasure, FL (TRV), VORTAC from the route and replaces it with the intersection of the Palm Beach, FL (PBI), VORTAC 340° T/343° M and the Melbourne, FL (MLB), VOR/DME 161°T/168°M radials (SMUGS, FL, Fix) due to the scheduled decommissioning of the Treasure VORTAC.

Additionally, the FAA removes the airway segment between the Presque Isle VOR/DME and the LABRE Fix near the United States (U.S.)/Canadian border. The airway structure that connected to the LABRE Fix on the Canadian side of the border has been removed so this airway segment was no longer needed for navigation. As amended, the route extends between the Key West VORTAC and the OWENS Fix; and between the Florence VORTAC and the Boston VOR/DME.

V-35: Prior to this final rule, V-35 extended between the Dolphin, FL (DHP), VORTAC and the Pecan, GA (PZD), VOR/DME; between the intersection of the Dublin, GA (DBN), VORTAC 309° and the Athens, GA (AHN), VOR/DME 195° radials (SINCA Fix) and the Morgantown, WV (MGW), VOR/DME; and between the Philipsburg, PA (PSB), VORTAC and the Stonyfork, PA (SFK), VOR/DME. The FAA removes the airway segments between the Dolphin VORTAC and the Lee County, FL (RSW), VORTAC due to the scheduled decommissioning of the Cypress, FL (CYY), VOR/DME. As amended, the route extends between the Lee County VORTAC and the Pecan VOR/DME, between the SINCA Fix and the Morgantown VOR/DME, and between the Philipsburg VORTAC and the Stonyfork VOR/DME.

V-51: Prior to this final rule, V-51 extended between the Pahokee, FL (PHK), VOR/DME and the Craig, FL (CRG), VORTAC; between the Hinch Mountain, TN (HCH), VOR/DME and the Louisville, KY (IIU), VORTAC; and between the Shelbyville, IN (SHB), VOR/DME and the Chicago Heights, IL (CGT), VORTAC. The FAA removes the airway segments between the Pahokee VOR/DME and the Ormond Beach, FL (OMN), VORTAC due to the scheduled decommissioning of the Pahokee VOR/DME and the Treasure, FL (TRV), VORTAC. As amended, the route extends between the Ormond Beach VORTAC and the Craig VORTAC; between the Hinch Mountain VOR/DME and the Louisville VORTAC; and between the Shelbyville VOR/DME and the Chicago Heights VORTAC.

V-97: Prior to this final rule, V-97 extended between the Dolphin, FL (DHP), VORTAC and the intersection of the Pecan, GA (PZD), VOR/DME 357° and Vienna, GA (VNA), VORTAC 300° radials (PRATZ Fix); between the intersection of the Rome, GA (RMG), VORTAC 060° and the Volunteer, TN (VXV), VORTAC 197° radials (NELLO Fix) and the intersection of the Chicago Heights, IL (CGT), VORTAC 358° and DuPage, IL (DPA), VOR/DME 101° radials (NILES Fix); and between the Nodine, MN (ODI), VORTAC and the Gopher, MN (GEP), VORTAC. The FAA removes the airway segments between the Dolphin VORTAC and the St. Petersburg, FL (PIE), VORTAC due to the scheduled decommissioning of the La Belle, FL (LBV), VORTAC. As amended, the route extends between the St. Petersburg VORTAC and the PRATZ Fix; between the NELLO Fix and the NILES Fix; and between the Nodine VORTAC and the Gopher VORTAC.

V-157: Prior to this final rule, V-157 extended between the Key West, FL (EYW), VORTAC and the Waycross, GA (AYS), VORTAC; between the Florence, SC (FLO), VORTAC and the Tar River, NC (TYI), VORTAC; and between Robbinsville, NJ (RBV), VORTAC and the Albany, NY (ALB), VORTAC. The FAA removes the airway segments between the Dolphin, FL (DHP), VORTAC and the Lakeland, FL (LAL), VORTAC due to the scheduled decommissioning of the La Belle, FL (LBV), VORTAC. As amended, the route extends between the Key West VORTAC and the Dolphin VORTAC; between the Lakeland VORTAC and the Waycross VORTAC; between the Florence VORTAC and the Tar River VORTAC; and between the Robbinsville VORTAC and the Albany VORTAC.

V-159: Prior to this final rule, V-159 extended between the Virginia Key, FL (VKZ), VOR/DME and the Vulcan, AL (VUZ), VORTAC; and between the Holly Springs, MS (HLI), VORTAC and the Omaha, IA (OVR), VORTAC. The FAA removes the airway segments between the Virginia Key VOR/DME and the intersection of the Melbourne, FL (MLB), VOR/DME 269° T/276° M and the Orlando, FL (ORL), VORTAC 140° radials (DEARY Fix) due to the scheduled decommissioning of the Treasure, FL (TRV), VORTAC. As amended, the route extends between the DEARY Fix and the Vulcan VORTAC; and between the Holly Springs VORTAC and the Omaha VORTAC.

V-225: Prior to this final rule, V-225 extended between the Key West, FL (EYW), VORTAC and the Treasure, FL (TRV), VORTAC. The FAA removes the airway segments between the Lee County, FL (RSW), VORTAC and the Treasure VORTAC due to the scheduled decommissioning of the La Belle, FL (LBV), VORTAC and the Treasure VORTAC. Additionally, the FAA removes the specified floor of controlled airspace along the route as it is no longer valid and removes the portion of the route's description that reads “The portion of V-225 E alternate outside of the United States has no upper limit”, as V-225 E alternate no longer exists. As amended, the route extends between the Key West VORTAC and the Lee County VORTAC.

V-295: Prior to this final rule, V-295 extended between the Virginia Key, FL (VKZ), VOR/DME and the Seminole, FL (SZW), VORTAC. The FAA removes the airway segments between the Virginia Key VOR/DME and the Orlando, FL (ORL), VORTAC due to the scheduled decommissioning of the Treasure, FL (TRV), VORTAC. Additionally, the FAA removes the airway segments between the Orlando VORTAC and the Seminole VORTAC due to redundant navigation capability provided by VOR Federal Airways V-159 and V-7. The FAA removes the route in its entirety.

V-437: Prior to this final rule, V-437 extended between the Dolphin, FL (DHP), VORTAC and the Florence, SC (FLO), VORTAC. The FAA removes the airway segments between the Dolphin VORTAC and the Melbourne, FL (MLB), VOR/DME due to the scheduled decommissioning of the Pahokee, FL (PHK), VOR/DME. As amended, the route extends between the Melbourne VOR/DME and the Florence VORTAC.

V-492: Prior to this final rule, V-492 extended between the La Belle, FL (LBV), VORTAC and the Melbourne, FL (MLB), VOR/DME. The FAA removes the airway segments between the La Belle VORTAC and the Palm Beach, FL (PBI), VORTAC due to the scheduled decommissioning of the La Belle VORTAC and the Pahokee, FL (PHK), VOR/DME. As amended, the route extends between the Palm Beach VORTAC and the Melbourne VOR/DME.

V-521: Prior to this final rule, V-521 extended between the Dolphin, FL (DHP), VORTAC and the Vulcan, AL (VUZ), VORTAC. The FAA removes the airway segments between the Dolphin VORTAC and the Lee County, FL (RSW), VORTAC due to the scheduled decommissioning of the La Belle, FL (LBV), VORTAC. Additionally, the FAA removes the airway segments between the Lee County VORTAC and the Marianna, FL (MAI), VORTAC due to redundant navigation capability provided by VOR Federal Airways V-7 and V-198. As amended, the route extends between the Marianna VORTAC and the Vulcan VORTAC.

V-529: Prior to this final rule, V-529 extended between the intersection of the Miami, FL, VOR 222° and the La Belle, FL (LBV), VORTAC 158° radials (FAMIN Fix) and the La Belle, VORTAC. The FAA removes the airway in its entirety due to the scheduled decommissioning of the La Belle VORTAC.

V-537: Prior to this final rule, V-537 extended between the Palm Beach, FL (PBI), VORTAC and the Greenville, FL (GEF), VORTAC. The FAA removes the airway segments between the Palm Beach VORTAC and the intersection of the Melbourne, FL (MLB), VOR/DME 269° T/276° M and the Orlando, FL (ORL), VORTAC 140° T/140° M radials (DEARY Fix) due to the scheduled decommissioning of the Treasure, FL (TRV), VORTAC. As amended, the route extends between the DEARY Fix and the Greenville VORTAC.

V-601: Prior to this final rule, V-601 extended between the Pahokee, FL (PHK), VOR/DME and the Key West, FL (EYW), VORTAC. The FAA removes the airway in its entirety due to the scheduled decommissioning of the Pahokee VOR/DME.

The navigational aid radials listed in the VOR Federal airway description regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending domestic VOR Federal Airways V-3, V-35, V-51, V-97, V-157, V-159, V-225, V-437, V-492, V-521, and V-537 and revoking VOR Federal Airways V-295, V-529, and V-601 in the eastern United States, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p.389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-3 [Amended]

From Key West, FL; INT Key West 083° and Dolphin, FL, 191° radials; Dolphin; Ft. Lauderdale, FL; Palm Beach, FL; INT Palm Beach 340° and Melbourne, FL, 161° radials; Melbourne; Ormond Beach, FL; Brunswick, GA; INT Brunswick 014° and Savannah, GA, 177° radials; Savannah; to INT Savannah 028° and Allendale, SC, 116° radials. From Florence, SC; Sandhills, NC; Raleigh-Durham, NC; INT Raleigh-Durham 016° and Flat Rock, VA, 214° radials; Flat Rock; Gordonsville, VA; INT Gordonsville 331° and Martinsburg, WV, 216° radials; Martinsburg; Westminster, MD; INT Westminster 048° and Modena, PA, 258° radials; Modena; Solberg, NJ; INT Solberg 044° and Carmel, NY, 243° radials; Carmel; Hartford, CT; INT Hartford 084° and Boston, MA, 224° radials; to Boston. The airspace within R-2916, R-2934, and R-2935 is excluded.

* * * * *

V-35 [Amended]

From Lee County, FL; INT Lee County 326° and St. Petersburg, FL, 152° radials; St. Petersburg; INT St. Petersburg 350° and Cross City, FL, 168° radials; Cross City; Greenville, FL; to Pecan, GA. From INT Dublin, GA, 309° and Athens, GA, 195° radials; Athens; Electric City, SC; Sugarloaf Mountain, NC; Holston Mountain, TN; Glade Spring, VA; Charleston, WV; INT Charleston 051° and Elkins, WV, 264° radials; Clarksburg, WV; to Morgantown, WV. From Philipsburg, PA; to Stonyfork, PA.

* * * * *

V-51 [Amended]

From Ormond Beach, FL; to Craig, FL. From Hinch Mountain, TN; Livingston, TN; to Louisville, KY. From Shelbyville, IN; INT Shelbyville 313° and Boiler, IN, 136° radials; Boiler; to Chicago Heights, IL.

* * * * *

V-97 [Amended]

From St. Petersburg, FL; Seminole, FL; Pecan, GA; to INT Pecan 357° and Vienna, GA 300° radials. From INT Rome, GA 060° and Volunteer, TN, 197° radials; Volunteer; London, KY; Lexington, KY; Cincinnati, KY; Shelbyville, IN; INT Shelbyville 313°and Boiler, IN, 136° radials; Boiler; Chicago Heights, IL; to INT Chicago Heights 358° and DuPage, IL, 101° radials. From Nodine, MN; to Gopher, MN. The airspace below 2,000 feet MSL outside the United States is excluded.

* * * * *

V-157 [Amended]

From Key West, FL; INT Key West 038° and Dolphin, FL, 244° radials; to Dolphin. From Lakeland, FL; Ocala, FL; INT Ocala 346° and Taylor, FL, 170° radials; Taylor; to Waycross, GA. From Florence, SC; Fayetteville, NC; Kinston, NC; to Tar River, NC. From Robbinsville, NJ; INT Robbinsville 044° and LaGuardia, NY, 213° radials; LaGuardia; INT LaGuardia 032° and Deer Park, NY, 326° radials; INT Deer Park 326° and Kingston, NY, 191° radials; Kingston; to Albany, NY.

* * * * *

V-159 [Amended]

From INT Melbourne, FL, 269° and Orlando, FL, 140° radials; Orlando; Ocala, FL; Cross City, FL; Greenville, FL; Pecan, GA; Eufaula, AL; INT Eufaula 320° and Vulcan, AL, 139° radials to Vulcan. From Holly Springs, MS; Gilmore, AR; Walnut Ridge, AR; Dogwood, MO; Springfield, MO; Napoleon, MO; INT Napoleon 005° and St. Joseph, MO, 122° radials; St. Joseph; to Omaha, IA.

* * * * *

V-225 [Amended]

From Key West, FL; to Lee County, FL.

* * * * *

V-295 [Removed]

* * * * *

V-437 [Amended]

From Melbourne, FL; INT Melbourne 322° and Ormond Beach, FL, 211° radials; Ormond Beach; INT Ormond Beach 360° and Savannah, GA, 177° radials; Savannah; INT Savannah 054° and Charleston, SC, 231° radials; Charleston; to Florence, SC. The airspace within R-2935 is excluded.

* * * * *

V-492 [Amended]

From Palm Beach, FL; INT Palm Beach 356° and Melbourne, FL, 146° radials, to Melbourne.

* * * * *

V-521 [Amended]

From Marianna, FL; Wiregrass, AL; INT Wiregrass 333° and Montgomery, AL, 129° radials; Montgomery; INT Montgomery 357° and Vulcan, AL, 139° radials; to Vulcan.

* * * * *

V-529 [Removed]

* * * * *

V-537 [Amended]

From INT Melbourne, FL, 269° and Orlando, FL, 140° radials; INT Orlando 140° and Melbourne 298° radials; INT Melbourne 298° and Ocala, FL, 145° radials; Ocala; Gators, FL; to Greenville, FL.

* * * * *

V-601 [Removed]

* * * * *

Issued in Washington, DC, on February 4, 2025.
Brian Eric Konie,
Manager (A), Rules and Regulations Group.

[FR Doc. 2025-02390 Filed 2-7-25; 8:45 am]

BILLING CODE 4910-13-P